DEPARTMENT OF JUSTICE

Office of Justice Programs

[OMB Number 1121-NEW]

Agency Information Collection Activities: Extension of a Currently Approved Collection; Comments Requested

ACTION: 30-Day Notice of Information Collection Under Review: Office of Justice Programs (OJP) Solicitation Template.

The Department of Justice (DOJ), Office of Justice Programs will be submitting the following information collection request to the Office of Management and Budget (OMB) for review and approval in accordance with the Paperwork Reduction Act of 1995. The proposed information collection is published to obtain comments from the public and affected agencies. This proposed information collection was previously published in the Federal Register Volume 74, Number 172, pages 46226-46227, on September 8, 2009, allowing for a 60-day comment period.

Comments are encouraged and will be accepted for “thirty days” until December 17, 2009. This process is conducted in accordance with 5 CFR 1320.10.

If you have additional comments, especially on the estimated public burden or associated response time, suggestions, or need a copy of the proposed information collection instrument with instructions or additional information, please contact: Amy Callaghan, (202) 514-9292, Office of Audit, Assessment, and Management, Office of Justice Programs, Department of Justice, 810 Seventh Street, NW., Washington, DC 20531 or Amy.Callaghan@usdoj.gov.

Written comments and suggestions from the public and affected parties concerning the proposed collection of information are encouraged. Your comments should address one or more of the following four points:

— Evaluate whether the proposed collection of information is necessary for the proper performance of the functions of the agency, including whether the information will have practical utility;

— Evaluate the accuracy of the agency's estimate of the burden of the proposed collection of information, including the validity of the methodology and assumptions used;

— Enhance the quality, utility, and clarity of the information to be collected; and

— Minimize the burden of the collection of information on those who are to respond, including through the use of appropriate automated, electronic, mechanical, or other technological collection techniques or other forms of information technology, e.g., permitting electronic submission of responses.

Overview of This Information

(1) Type of information collection: Information in response to the required data elements outlined in the solicitation template for programs administered by the Office of Justice Programs.

(2) The title of the form/collection: Office of Justice Programs solicitation template.

(3) The agency form number, if any, and the applicable component of the Department sponsoring the collection: The Office of Audit, Assessment, and Management, Office of Justice Programs, U.S. Department of Justice.

(4) Affected public who will be asked or required to respond, as well as a brief abstract: State agencies, tribal governments, local governments, colleges and universities, non-profit organizations, for-profit organizations and faith-based organizations. The purpose of the solicitation template is to provide a framework to develop program-specific announcements soliciting applications for funding. A program solicitation outlines the specifics of the funding program; describes requirements for eligibility; instructs an applicant on the necessary components of an application under a specific program (e.g., project activities and timeline, proposed budget); outlines program evaluation and performance measures; explains selection criteria and the review process; and provides registration dates, due dates, and instructions on how to apply within the designated application system.

(5) An estimate of the total number of respondents and the amount of time estimated for an average respondent to respond/reply: It is estimated that information will be collected annually from 9,800 applicants, representing State agencies, tribal governments, local governments, colleges and universities, non-profit organizations, and for-profit organizations. Annual cost to the respondents is based on the number of hours involved in preparing and submitting a complete application package. Public reporting burden for this collection of information is estimated at up to 30 hours per application. The 30-hour estimate is based on the amount of time to prepare research and evaluation proposals, one of the most time intensive types of applications solicited by OJP. The estimate of burden hours is based on OJP's prior experience with the research application submissions process.

(6) An estimate of the total public burden (in hours) associated with the collection: The estimated public burden associated with this collection is 294,000 hours.

If additional information is required contact: Ms. Lynn Bryant, Department Clearance Officer, United States Department of Justice, Justice Management Division, Policy and Planning Staff, Suite 1600, 601 D Street, NW., Washington, DC 20530.

Dated: November 10, 2009.
Lynn Bryant,
Department Clearance Officer, PRA, U.S. Department of Justice.

[FR Doc. E9-27459 Filed 11-16-09; 8:45 am]

BILLING CODE 4410-18-P